DEPARTMENT OF THE TREASURY

United States Mint

Pricing for 2012 Products Featuring $1 Coins

AGENCY: United States Mint, Department of the Treasury.

ACTION: Notice.

SUMMARY: The United States Mint is announcing 2012 pricing for products featuring $1 coins, as follows:

Product | Retail price
Presidential $1 Coin & First Spouse Medal Set ™ | $9.95
American Presidency $1 Coin Cover Series | 19.95
Presidential $1 Coin Proof Set ™ | 18.95
Presidential $1 Coin Uncirculated Set ™ (P&D) | 16.95
Native American and Presidential $1 Coin Rolls | 32.95
$1 Coin 250-Coin Box | 275.95
$1 Coin 500-Coin Box | 550.95
$1 Coin Five-Coin Set | 12.95
$1 Coin 100-Coin Bags | 111.95

FOR FURTHER INFORMATION CONTACT: B.B. Craig, Associate Director for Sales and Marketing; United States Mint; 801 9th Street NW., Washington, DC 20220; or call (202) 354-7500.

Authority: 31 U.S.C. 5111, 5112 & 9701.

Dated: December 30, 2011.
Al Runnels,
Acting Chief of Staff, United States Mint.

[FR Doc. 2012-27 Filed 1-5-12; 8:45 am]

BILLING CODE 4810-02-P